DEPARTMENT OF THE INTERIOR

Bureau of Land Management

[LLWYP06000.LL13100000.DB0000]

Notice of Availability of a Supplement to the Draft Environmental Impact Statement for the Converse County Oil and Gas Project, Converse County, Wyoming

AGENCY: Bureau of Land Management, Interior.

ACTION: Notice.

SUMMARY: In accordance with the National Environmental Policy Act of 1969, as amended (NEPA), the Bureau of Land Management (BLM) has prepared a Supplement to the Draft Environmental Impact Statement (Draft EIS) released January 26, 2018 that evaluates, analyzes, and discloses to the public direct, indirect, and cumulative environmental impacts of the proposal to amend the Casper Resource Management Plan (Casper RMP) to allow for timing stipulation relief for non-eagle raptors only within the Converse County Oil and Gas Project area in Converse County, Wyoming. This notice announces a 90-day public comment period.

DATES: To ensure that comments will be considered, the BLM must receive written comments on the Converse County Oil and Gas Project Supplement to the Draft EIS within 90 days following the date of this Notice of Availability in the Federal Register. The BLM will announce future meetings and any other public involvement activities at least 15 days in advance through public notices, media releases, mailings, and/or at the BLM website https://go.usa.gov/xEFvQ.

ADDRESSES: Written comments on the Converse County Oil and Gas Project may be submitted by any of the following methods:

• Email: blm_wy_casper_wymail@blm.gov,

• Fax: 307-261-7587,

• Mail or hand delivery: BLM Casper Field Office, 2987 Prospector Drive, Casper, WY 82604.

Documents pertinent to this proposal may be examined at the following offices:

• BLM Casper Field Office, 2987 Prospector Drive, Casper, Wyoming 82604;

• BLM Wyoming State Office, 5353 Yellowstone Road, Cheyenne, Wyoming 82009.

Interested persons may also view the documents online at: https://go.usa.gov/xEFvQ. Please reference the Converse County Oil and Gas EIS Attn: Mike Robinson, Project Manager, when submitting your comments.

FOR FURTHER INFORMATION CONTACT: Mike Robinson, Project Manager, telephone: 307-261-7520; address: 2987 Prospector Drive, Casper, Wyoming 82604; email: blm_wy_casper_wymail@blm.gov. Persons who use a telecommunications device for the deaf (TDD) may call the Federal Relay Service (FRS) at 1-800-877-8339 to contact Mr. Robinson during normal business hours. The FRS is available 24 hours a day, 7 days a week, to leave a message or question with the above individual. You will receive a reply during normal business hours.

SUPPLEMENTARY INFORMATION: An operator group (OG) comprised of Anadarko Petroleum Company (Anadarko), Chesapeake Energy Corporation (Chesapeake), Devon Energy (Devon), EOG Resources, Inc. (EOG), and Northwoods Energy, propose to develop oil and gas leases within the Converse County Project Area (CCPA) in Converse County, Wyoming.

The CCPA encompasses approximately 1.5 million acres of land, of which approximately 88,466 surface acres (6 percent of the CCPA) are public lands administered by the BLM and approximately 63,911 surface acres (4 percent of the CCPA) are administered by the United States Forest Service. The remaining surface estate consists of approximately 101,012 surface acres (7 percent) administered by the State of Wyoming and approximately 1,247,477 surface acres (83 percent) that are privately owned. The BLM administers approximately 964,525 acres of mineral estate (64 percent) within the CCPA. Split estate lands, lands with private surface and Federal mineral ownership, comprise approximately 812,189 acres of those 964,525 acres (54 of the 64 percent) of the Federal mineral ownership of land within the CCPA.

The Supplement to the Draft EIS describes and analyzes the impacts of the OG's Proposed Action (Alternative B) consisting of five options as amendments to the Casper RMP. The following is a summary of those options:

Option 1: The No Action Option assumes that no amendment would be approved but that Alternative B would be approved with the standard stipulations for non-eagle raptor nest timing limitations applied as directed in the Casper RMP.

Option 2: This option consists of an amendment to the Casper RMP that would modify all existing leases and development within the Converse County Oil and Gas Project area, removing all non-eagle raptor nest timing limitations (lease stipulations, conditions of approval, mitigations or other stipulations) through the operation of the pertinent resource's laws, rules and regulations. Future leases or development within the Converse County Oil and Gas Project area would not apply the non-eagle raptor nest timing limitations.

Option 3: This option consists of an amendment to the Casper RMP that would allow for development within non-eagle raptor nest timing limitations within the Converse County Oil and Gas Project area contingent upon the proponent committing to measures detailed in this option.

Option 4: This option consists of an amendment to the Casper RMP that would allow for development within non-eagle raptor nest timing limitations within the Converse County Oil and Gas Project area contingent upon the proponent's proposed practices or plans that the BLM determines alleviates impacts to non-eagle raptors.

Option 5: This option consists of an amendment to the Casper RMP that would allow for development within non-eagle raptor nest timing limitations within the Converse County Oil and Gas Project area contingent upon completion of a Migratory Bird Conservation Plan with the US Fish and Wildlife Service in coordination with the BLM.

The Notice of Intent to prepare an EIS was published in the Federal Register on May 16, 2014. Key issues identified during scoping included: Potential impacts on private landowners over Federal mineral estate; socioeconomic impacts on local communities and residents, particularly from increased noise, traffic, and population growth; potential impacts on air quality and climate change; potential impacts to groundwater and surface water supply and quality; potential impacts to historic trails; enforcement of reclamation and other mitigation on non-Federal lands; impacts to area recreation, grazing, and hunting; the potential to impact sage grouse, migratory birds, big game, and other wildlife; and adequate analysis of cumulative impacts.

The public is encouraged to comment on any and all portions of the document. The BLM asks that those submitting comments make them as specific as possible with reference to chapters, page numbers, and paragraphs in the Supplement to the Draft EIS document. Comments that contain only opinions or preferences will not receive a formal response. The most useful comments will include new technical or scientific information, identification of data gaps in the impact analysis, or technical or scientific rationale for opinions or preference.

Comments and information submitted on the Supplement to the Draft EIS for the Converse County Oil and Gas project including names, email addresses, and street addresses of respondents will be available for public review online at: https://go.usa.gov/xEFvQ. The BLM will not accept anonymous comments, false names or unidentified emails.

Before including your address, phone number, email address or other personal identifying information in your comment, you should be aware that your entire comment—including your personal identifying information—may be made publicly available at any time. While you can ask us in your comment to withhold your personal identifying information from public review, we cannot guarantee that we will be able to do so.

Authority: 40 CFR 1506.6, 40 CFR 1506.10

Mary Jo Rugwell,
State Director, Wyoming.

[FR Doc. 2019-08288 Filed 4-25-19; 8:45 am]

BILLING CODE 4310-22-P